DEPARTMENT OF HOMELAND SECURITY

Coast Guard

[Docket No. USCG-2012-1066]

Draft Guidance Regarding Voluntary Inspection of Vessels for Compliance With the Maritime Labour Convention, 2006

AGENCY: Coast Guard, DHS.

ACTION: Notice of availability and request for comments.

SUMMARY: The Coast Guard announces the availability of a draft Navigation and Vessel Inspection Circular (NVIC) that sets forth the Coast Guard's policies and procedures regarding the inspection of U.S. vessels for voluntary compliance with the Maritime Labour Convention, 2006 (Convention), which enters into force on August 20, 2013. The NVIC will provide guidance to the maritime industry, Coast Guard marine inspectors, and other affected parties on how the Coast Guard intends to implement the new voluntary inspection program. This notice solicits public comment on the impacts that the policies and procedures contained in the NVIC would have on applicable vessels and other affected parties. This notice also solicits public comment on the collection of information associated with the new voluntary inspection program.

DATES: Comments and related material on the draft NVIC must either be submitted to our online docket via http://www.regulations.gov on or before March 13, 2013 or reach the Docket Management Facility by that date. For the collection of information associated with the new voluntary inspection program, comments and related material must either be submitted to our online docket via http://www.regulations.gov on or before April 12, 2013 or reach the Docket Management Facility by that date.

ADDRESSES: You may submit comments identified by docket number USCG-2012-1066 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice, email Lieutenant Commander Christopher Gagnon, Domestic Vessels Division, U.S. Coast Guard at cg-cvc-1@uscg.mil. If you have questions on viewing or submitting material to the docket, call Docket Operations at 202-366-9826.

SUPPLEMENTARY INFORMATION:

Public Participation and Request for Comments

We encourage you to submit comments and related material on the draft NVIC on Voluntary Inspection of Vessels under the Maritime Labour Convention, 2006 and the collection of information associated with the issuance of the Statement of Voluntary Compliance, Declaration of Maritime Labour Compliance—Part II. All comments received will be posted, without change, to http://www.regulations.gov and will include any personal information you have provided.

Submitting comments: If you submit a comment, please include the docket number for this notice (USCG-2012-1066) and provide a reason for each suggestion or recommendation. You may submit your comments and material online, or by fax, mail or hand delivery, but please use only one of these means. We recommend that you include your name and a mailing address, an email address, or a telephone number in the body of your document so that we can contact you if we have questions regarding your submission.

To submit your comment online, go to http://www.regulations.gov and use “USCG-2012-1066” as your search term. Locate this notice in the search results and click the corresponding “Comment Now” box to submit your comment. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing the comments and draft NVIC: To view the comments and draft NVIC, go to http://www.regulations.gov and use “USCG-2012-1066” as your search term. Use the filters on the left side of the page to search the docket for public comments and other documents. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).

Background and Purpose

The 94th (Maritime) session of the International Labour Conference (ILC) (Geneva, February 2006) adopted the Maritime Labour Convention, 2006, a new international agreement that consolidates almost all of the 70 existing International Labour Organization (ILO) maritime labour instruments into a single, modern, globally applicable legal instrument. The Convention establishes comprehensive minimum requirements for working conditions of seafarers, including, among other things, conditions of employment, hours of work and rest, accommodations, recreational facilities, food and catering, health protection, medical care, welfare, and social security protection. It combines rights and principles with specific standards and detailed guidance on how to implement these standards at the national level. The Convention is comprised of three different, but related parts: The Articles, the Regulations, and the Code. The Articles and Regulations set out the core rights and principles, and the basic obligations of members ratifying the Convention. The Code is comprised of a Part A (mandatory standards) and a Part B (non-mandatory guidelines).

To date, the U.S. government has not ratified the Convention. Unless and until the U.S. ratifies the Convention, the Coast Guard will not enforce Convention requirements on U.S. vessels or foreign vessels while on the navigable waters of the U.S.

Article V, paragraph 7 of the Convention contains a “no more favorable treatment clause,” which requires the governments of ratifying nations to impose Convention requirements on vessels from non-ratifying nations. As a result, a U.S. vessel that is not able to demonstrate compliance with the Convention may be at risk for Port State Control actions (including detention) when operating in a port of a ratifying nation.

Draft NVIC

In order to assist U.S. vessels in avoiding Port State Control actions in foreign ports of nations that have ratified the Convention, the Coast Guard plans to implement a voluntary compliance inspection program and issue Statements of Voluntary Compliance. To promote consistency and standardization of Coast Guard policies and procedures, this draft NVIC provides guidance to the maritime industry and Coast Guard marine inspectors on how the Coast Guard intends to implement this new voluntary inspection program. Applicable U.S. vessels are highly encouraged to comply with the Convention and obtain Statements of Voluntary Compliance.

We request comments from all interested parties to ensure that the full range and significance of issues addressed in the draft NVIC are identified.

Collection of Information

This notice contains a collection of information under the Paperwork Reduction Act of 1995 (44 U.S.C. 3501-3520). As defined in 5 CFR 1320.3(c), “collection of information” comprises reporting, recordkeeping, monitoring, posting, labeling, and other, similar actions. The title and description of the information collections, a description of those who must collect the information, and an estimate of the total annual burden follow. The estimate covers the time for reviewing instructions, searching existing sources of data, gathering and maintaining the data needed, and completing and reviewing the collection.

This notice details a new collection of information. A summary of the collection follows.

Title: Various International Agreement Certificates and Documents.

OMB Control Number: 1625-new.

Summary of the Collection: This information collection is associated with the Maritime Labour Convention, 2006. The Coast Guard plans to establish a voluntary inspection program for vessels wishing to document compliance with the requirements of the Convention. U.S. commercial vessels that operate on international routes will be eligible to participate.

Need for Information: The information is needed to determine if a vessel is in compliance with the Convention.

Proposed Use of Information: The Coast Guard intends on issuing voluntary compliance certificates as proof of compliance with the Convention.

Description of Respondents: Vessel owners and operators.

Number of Respondents: 1,000.

Frequency of Response: On occasion. We estimate two responses per respondent, one for the Convention application and one for the recordkeeping of a Coast Guard-issued Statement of Voluntary Compliance.

Burden of Response: 4.15 hours per respondent.

Estimate of Total Annual Burden: 4,150 hours.

As required by the Paperwork Reduction Act of 1995 (44 U.S.C. 3507(d)), we will submit a copy of this notice to the Office of Management and Budget (OMB) for its review of the collection of information.

We ask for public comment on the proposed collection of information to help us determine how useful the information is; whether it can help us perform our functions better; whether it is readily available elsewhere; how accurate our estimate of the burden of collection is; how valid our methods for determining burden are; how we can improve the quality, usefulness, and clarity of the information; and how we can minimize the burden of collection.

If you submit comments on the collection of information, submit them to the Docket Management Facility where indicated under ADDRESSES, by the date under DATES.

You need not respond to a collection of information unless it displays a currently valid control number from OMB. Before the Coast Guard could enforce the collection of information requirements in this notice, OMB would need to approve the Coast Guard's request to collect this information.

This notice is issued under authority of 33 U.S.C. 1221(c)(3) and 5 U.S.C. 552(a).

Dated: January 25, 2013.
Paul F. Thomas,
Captain, U.S. Coast Guard, Director of Inspections & Compliance.

[FR Doc. 2013-02956 Filed 2-8-13; 8:45 am]

BILLING CODE 9110-04-P